INTERNATIONAL TRADE COMMISSION

[USITC SE-02-015]

Sunshine Act Meeting

Agency Holding the Meeting: United States International Trade Commission.

Time and Date: June 3, 2002 at 2 p.m.

Place: Room 101, 500 E Street SW., Washington, DC 20436, Telephone: (202) 205-2000.

Status: Open to the public.

Matters To Be Considered:

1. Agenda for future meeting: none.

2. Minutes.

3. Ratification List.

4. Inv. Nos. 731-TA-1006-1009 (Preliminary) (Urea Ammonium Nitrate from Belarus, Lithuania, Russia, and Ukraine)—briefing and vote. (The Commission is currently scheduled to transmit its determination to the Secretary of Commerce on June 3, 2002; Commissioners' opinions are currently scheduled to be transmitted to the Secretary of Commerce on or before June 10, 2002.)

5. Outstanding action jackets:

(1) Document No. EC-02-005: Approval of final report in Inv. No. 332-325 (The Economic Effects of Significant U.S. Import Restraints: Third Update).

(2) Document No. GC-02-057: Concerning Inv. Nos. 731-TA-919-920 (Final) (Certain Welded Large Diameter Line Pipe from Japan and Mexico).

In accordance with Commission policy, subject matter listed above, not disposed of at the scheduled meeting, may be carried over to the agenda of the following meeting.

Issued: May 20, 2002.
By order of the Commission:
Marilyn R. Abbott,
Secretary to the Commission.

[FR Doc. 02-13117 Filed 5-21-02; 2:13 pm]

BILLING CODE 7020-02-M